DEPARTMENT OF THE INTERIOR

National Park Service

Notice of Inventory Completion for Native American Human Remains and Associated Funerary Objects in the Possession of the Museum of Natural History and Planetarium, Roger Williams Park, Providence, RI

AGENCY: National Park Service, Interior.

ACTION: Notice.

Notice is hereby given in accordance with provisions of the Native American Graves Protection and Repatriation Act (NAGPRA), 43 CFR 10.9, of the completion of an inventory of human remains and associated funerary objects in the possession of the Museum of Natural History and Planetarium, Roger Williams Park, Providence, RI.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains were made by Museum of Natural History and Planetarium, Roger Williams Park, professional staff in consultation with representatives of the Osage Nation of Oklahoma and the Quapaw Tribe of Indians, Oklahoma.

In 1937, human remains representing one individual were removed from an unknown location in the Ozark Mountains, AR, by Otto Spring, Kent Spring, Charles H. Williams, Paul Santee, Harry Barton, and Fred Tebo. These human remains were received at an unknown date between 1937 and 1959 by Louis Pierce, of Providence, RI. Albert E. Hagenberg, a resident of Warwick, RI, acquired the human remains from the estate of Louis Pierce and sold them to the Museum of Natural History and Planetarium, Roger Williams Park, in 1959. No known individual was identified. No associated funerary objects are present.

The human remains consist of a thoracic vertebra with an embedded projectile point. The projectile point is characteristic of points made by people living in the Ozark Mountains during the last 3,000 years. Historical evidence, material culture, and oral history indicate that this region is part of the traditional territory of the Osage Nation of Oklahoma.

Based on the above-mentioned information, officials of the Museum of Natural History and Planetarium, Roger Williams Park, have determined that, pursuant to 43 CFR 10.2 (d)(1), the human remains listed above represent the physical remains of one individual of Native American ancestry. Officials of the Museum of Natural History and Planetarium, Roger Williams Park, also have determined that, pursuant to 43 CFR 10.2 (e), there is a relationship of shared group identity that can be reasonably traced between these Native American human remains and the Osage Nation of Oklahoma.

This notice has been sent to officials of the Osage Nation of Oklahoma and Quapaw Tribe of Indians, Oklahoma. Representatives of any other Indian tribe that believes itself to be culturally affiliated with these human remains should contact Marilyn Massaro, Curator of Collections, Museum of Natural History and Planetarium, Roger Williams Park, Providence, RI 02905, telephone (401) 785-9457, before September 30, 2002. Repatriation of the human remains to the Osage Nation of Oklahoma may begin after that date if no additional claimants come forward.

Dated: July 22, 2002.
C. Timothy McKeown,
Acting Manager, National NAGPRA Program.

[FR Doc. 02-21991 Filed 8-28-02; 8:45 am]

BILLING CODE 4310-70-S